DEPARTMENT OF COMMERCE

National Oceanic and Atmospheric Administration

[I.D. 042604E]

Pacific Fishery Management Council; Public Meeting

AGENCY: National Marine Fisheries Service (NMFS), National Oceanic and Atmospheric Administration (NOAA), Commerce.

ACTION: Notice of a public meeting.

SUMMARY: The Pacific Fishery Management Council's (Council) Coastal Pelagic Species Advisory Subpanel (CPSAS) will hold a public meeting.

DATES: The CPSAS will meet Wednesday, May 19, 2004, from 9 a.m. until business for the day is completed.

ADDRESSES: The meeting will be held at NMFS, Southwest Region, 501 West Ocean Blvd., Conference Room 3400, Long Beach, CA 90802; telephone: (562) 980-4000.

Council address: Pacific Fishery Management Council, 7700 NE Ambassador Place, Suite 200, Portland, OR 97220-1384.

FOR FURTHER INFORMATION CONTACT: Dan Waldeck, Pacific Fishery Management Council; telephone: (503) 820-2280.

SUPPLEMENTARY INFORMATION: The primary purpose of the work session is to review information developed by the CPS Management Team about the current Pacific mackerel stock assessment and harvest guideline and seasonal structure recommendations for the 2004-05 fishery. Planning for the CPS stock assessment review and election of CPSAS officers for 2004 will also occur. CPSAS considerations about the need for an amendment to the CPS fishery management plan to address management measures related to Pacific sardine allocation will also be discussed. The CPSAS will develop recommendations for presentation to the Council at the June 2004 Council meeting.

Although non-emergency issues not contained in the meeting agenda may come before the CPSAS for discussion, those issues may not be the subject of formal action during this meeting. Action will be restricted to those issues specifically listed in this document and any issues arising after publication of this document that require emergency action under section 305(c) of the Magnuson-Stevens Fishery Conservation and Management Act, provided the public has been notified of the CPSAS's intent to take final action to address the emergency.

Special Accommodations

The meeting is physically accessible to people with disabilities. Requests for sign language interpretation or other auxiliary aids should be directed to Ms. Carolyn Porter at (503) 820-2280 at least five days prior to the meeting date.

Dated: April 28, 2004.
Matteo J. Milazzo,
Acting Director, Office of Sustainable Fisheries, National Marine Fisheries Service.

[FR Doc. 04-10073 Filed 5-3-04; 8:45 am]

BILLING CODE 3510-22-S